ENVIRONMENTAL PROTECTION AGENCY

[EPA-HQ-OAR-2006-0947; 9967-15-OEI]

Information Collection Request Submitted to OMB for Review and Approval; Comment Request; NOX Budget Trading Program To Reduce the Regional Transport of Ozone (Renewal)

AGENCY: Environmental Protection Agency (EPA).

ACTION: Notice.

SUMMARY: The Environmental Protection Agency has submitted an information collection request (ICR), “NOX Budget Trading Program to Reduce the Regional Transport of Ozone”, (EPA ICR No. 1857.07, OMB Control No. 2060-0445) to the Office of Management and Budget (OMB) for review and approval in accordance with the Paperwork Reduction Act. This is a proposed extension of the ICR, which is currently approved through August 31, 2017. Public comments were previously requested via the Federal Register on June 29, 2017 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 2, 2017.

ADDRESSES: Submit your comments, referencing Docket ID No. EPA-HQ-OAR-2006-0947, to (1) EPA online using regulations.gov (our preferred method), by email to docket@epamail.epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204J), Environmental Protection Agency, 1200 Pennsylvania Ave. NW., Washington, DC 20460; telephone number (202) 343-9220; fax number: (202) 343-2361; email address: vansickle.karen@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The NOX Budget Trading Program was a market-based cap and trade program created to reduce emissions of nitrogen oxides (NOX) from power plants and other large combustion sources in the eastern United States. The NOX Budget Trading Program was established as an optional implementation mechanism for the NOX SIP Call and was designed to reduce NOX emissions during the warm summer months, referred to as the ozone season, when ground-level ozone concentrations are highest. In 2009, the program was replaced by an ozone-season NOX trading program under the Clean Air Interstate Rule (CAIR), which has in turn been replaced by ozone-season NOX trading programs under the Cross-State Air Pollution Rule (CSAPR). Although the NOX Budget Trading Program was replaced after the 2008 compliance season, this information collection is being renewed because some sources in certain states are still required to monitor and report emissions data to EPA in accordance with the NOX SIP Call and are not covered by the CSAPR trading programs, so we will account for their information collection burden. All data received by EPA will be treated as public information. An agency may not conduct or sponsor, and a person is not required to respond to, a collection of information unless it displays a currently valid OMB control number. The OMB control numbers for EPA's regulations in 40 CFR are listed in 40 CFR part 9.

Form Numbers: None.

Respondents/affected entities: Entities potentially affected by this action are those which formerly participated in the NOX Budget Trading Program to Reduce the Regional Transport of Ozone and which continue to have reporting obligations in accordance with the NOX SIP Call that are not duplicated under other rules.

Respondent's obligation to respond: Mandatory (Sections 110(a) and 301(a) of the Clean Air Act).

Estimated number of respondents: EPA estimates that there are 460 former NOX Budget Trading Program units that will continue to conduct monitoring in accordance with Part 75 solely under the NOX SIP Call.

Frequency of response: Yearly, quarterly, occasionally.

Total estimated burden: 189,261 hours (per year). Burden is defined at 5 CFR 1320.03(b).

Total estimated cost: $27,787,807 (per year), includes $12,227,457 annualized capital or operation & maintenance costs.

Changes in the Estimates: The increase in total burden hours is due to the increased number of units whose information collection burden associated with reporting of ozone-season NOX mass emissions is now reported under this program instead of other programs. The information collection burden for reporting ozone season NOX mass emissions data for all sources that were formerly subject to the CAIR NOX Ozone Season Trading Program and are not covered by CSAPR is now covered under this ICR. Previously, the burden for reporting ozone season NOX mass emissions data for some of these sources was covered under the CAIR Program ICR (EPA ICR No. 2152.05, OMB Control No. 2060-0570).

Courtney Kerwin,
Director, Regulatory Support Division.

[FR Doc. 2017-18540 Filed 8-31-17; 8:45 am]

BILLING CODE 6560-50-P